DEPARTMENT OF COMMERCE

International Trade Administration

Advisory Committee on Supply Chain Competitiveness: Notice of Public Meetings

AGENCY: International Trade Administration, U.S. Department of Commerce.

ACTION: Notice of open meetings.

SUMMARY: This notice sets forth the schedule and proposed topics of discussion for upcoming public meetings of the Advisory Committee on Supply Chain Competitiveness (Committee).

DATES: The meetings will be held on October 22, 2020, from 10:00 a.m. to 12:00 p.m. and 1:00 p.m. to 4:00 p.m., Eastern Daylight Time (EDT).

ADDRESSES: The meetings will be held via Webex.

FOR FURTHER INFORMATION CONTACT: Richard Boll, Office of Supply Chain, Professional & Business Services (OSCPBS), International Trade Administration. Email: richard.boll@trade.gov. Telephone: 571-331-0098.

SUPPLEMENTARY INFORMATION:

Background: The Committee was established under the discretionary authority of the Secretary of Commerce and in accordance with the Federal Advisory Committee Act (5 U.S.C. App.). It provides advice to the Secretary of Commerce on the necessary elements of a comprehensive policy approach to supply chain competitiveness and on regulatory policies and programs and investment priorities that affect the competitiveness of U.S. supply chains. For more information about the Committee visit: https://www.trade.gov/acscc.

Matters to be considered: Committee members are expected to continue to discuss the major competitiveness-related topics raised at the previous Committee meetings, including trade and competitiveness; freight movement and policy; trade innovation; regulatory issues; finance and infrastructure; and workforce development. The Committee's subcommittees will report on the status of their work regarding these topics. The agenda may change to accommodate other Committee business. The Office of Supply Chain, Professional & Business Services will post the final detailed agenda on its website, https://www.trade.gov/acscc, at least one week prior to the meeting.

The meetings will be open to the public and press on a first-come, first-served basis. Space is limited. Please contact Richard Boll, at richard.boll@trade.gov, for participation information if you wish to participate.

Interested parties may submit written comments to the Committee at any time before and after the meeting. Parties wishing to submit written comments for consideration by the Committee in advance of this meeting email them to richard.boll@trade.gov.

For consideration during the meetings, and to ensure transmission to the Committee prior to the meetings, comments must be received no later than 5:00 p.m. EST on October 15, 2020. Comments received after October 15, 2020, will be distributed to the Committee, but may not be considered at the meetings. The minutes of the meetings will be posted on the Committee website within 60 days of the meeting.

Eugene Alford,
Co-DFO, ACSCC, Office of Supply Chain, Professional and Business Services.

[FR Doc. 2020-21847 Filed 10-1-20; 8:45 am]

BILLING CODE 3510-DR-P